POSTAL REGULATORY COMMISSION

[Docket No. MC2011-26; Order No. 777]

Mail Classification Schedule Change

AGENCY: Postal Regulatory Commission.

ACTION: Notice.

SUMMARY: The Commission is noticing a recently-filed Postal Service request regarding classification changes to Priority Mail packaging. This document invites public comments on the request and addresses several related procedural steps.

DATES: Comments are due: August 4, 2011.

ADDRESSES: Submit comments electronically by accessing the “Filing Online” link in the banner at the top of the Commission's Web site (http://www.prc.gov) or by directly accessing the Commission's Filing Online system at https://www.prc.gov/prc-pages/filing-online/login.aspx. Commenters who cannot submit their views electronically should contact the person identified in the FOR FURTHER INFORMATION CONTACT section as the source for case-related information for advice on alternatives to electronic filing.

FOR FURTHER INFORMATION CONTACT: Stephen L. Sharfman, General Counsel, at 202-789-6820 (case-related information) or DocketAdmins@prc.gov (electronic filing assistance).

SUPPLEMENTARY INFORMATION: On July 26, 2011, the Postal Service filed a notice of two classification changes pursuant to 39 CFR 3020.90 and 3020.91 concerning Priority Mail packaging.¹

¹ Notice of Minor Classification Changes, July 26, 2011 (Notice).

The first change clarifies that, for Priority Mail boxes, the size limitations for each type of box will be based on cube size rather than specific, distinct dimensions. The Postal Service states that this minor change in dimensions corresponds with variances in customized packaging provided to commercial customers and the standardized packaging available at retail. Id. at 1. It asserts that use of cube-based size limitations will remove uncertainty in the marketplace regarding the box size limitations. Id.

The second change adds a range of dimensions for Priority Mail Flat Rate Envelopes. Id. The Postal Service explains that the range will be more consistent with its Flat Rate Envelope packaging options for both retail and commercial customers. Id.

The Postal Service asserts that these changes will improve uniformity in the size limitation language in the Mail Classification Schedule (MCS) across all types of packaging and price categories within the Priority Mail product. It proposes conforming MCS language attached to its Notice.

The Commission establishes Docket No. MC2011-26 for consideration of matters related to the proposed classification change identified in the Notice.

Interested persons may submit comments on whether the Postal Service's request is consistent with the policies of 39 U.S.C. 3642 and generally with the provisions of title 39. Comments are due no later than August 4, 2011. The Postal Service's Notice can be accessed via the Commission's Web site (http://www.prc.gov).

The Commission appoints James F. Callow to serve as Public Representative in the captioned proceeding.

It is ordered:

1. The Commission establishes Docket No. MC2011-26 for consideration of matters raised by the Postal Service's Notice.

2. Comments by interested persons are due no later than August 4, 2011.

3. Pursuant to 39 U.S.C. 505, James F. Callow is appointed to serve as the officer of the Commission (Public Representative) to represent the interests of the general public in this proceeding.

4. The Secretary shall arrange for publication of this order in the Federal Register.

By the Commission.
Shoshana M. Grove,
Secretary.

[FR Doc. 2011-19669 Filed 8-2-11; 8:45 am]

BILLING CODE 7710-FW-P